FEDERAL COMMUNICATIONS COMMISSION

[Report No. 2384]

Petitions for Reconsideration and Clarification of Action in Rulemaking Proceeding

January 24, 2000.

Petitions for Reconsideration have been filed in the Commission's rulemaking proceedings listed in this Public Notice and published pursuant to 47 CFR Section 1.429(e). The full text of these documents are available for viewing and copying in room CY-A257, 445 12th Street, S.W., Washington, D.C. or may be purchased from the Commission's copy contractor, ITS, Inc. (202) 857-3800. Oppositions to these petitions must be filed by February 17, 2000. See Section 1.4(b)(1) of the Commission's rules (47 CFR 1.4(b)(1). Replies to an opposition must be filed within 10 days after the time for filing oppositions has expired.

Subject: Implementation of the Cable Television Consumer Protection and Competition Act of 1992 (CS Docket Nos. 98-82, 96-85), Implementation of Cable Act Reform Provisions of the Telecommunications Act of 1996, Review of the Commission's Cable Attribution Rules.

Number of Petitions Filed: 1.

Subject: Implementation of Section 11(C) of the Cable Television, (MM Docket No. 92-264), Consumer Protection and Competition Act of 1992, Horizontal Ownership Limits.

Number of Petitions Filed: 1.

Federal Communications Commission.
Magalie Roman Salas,
Secretary.

[FR Doc. 00-2145 Filed 2-1-00; 8:45 am]

BILLING CODE 6712-01-M